DEPARTMENT OF ENERGY

Federal Energy Regulatory Commission

Combined Notice of Filings #2

Take notice that the Commission received the following electric rate filings:

Docket Numbers: ER10-2616-004; ER10-2618-002; ER10-2619-002; ER11-4398-001; ER11-4400-001; ER10-2617-002; ER10-2613-002; ER10-2585-002.

Applicants: Dynegy Marketing and Trade, LLC, Dynegy Danskammer, L.L.C., Dynegy Kendall Energy, LLC, Dynegy Midwest Generation, LLC, Dynegy Power Marketing, LLC, Ontelaunee Power Operating Co., LLC, Sithe/Independence Power Partners, L.P., Casco Bay Energy Company, LLC.

Description: Supplement to July 8, 2013 Notice of Change in Status of Dynegy Inc. MBR subsidiaries.

Filed Date: 4/18/14.

Accession Number: 20140418-5150.

Comments Due: 5 p.m. ET 5/9/14.

Docket Numbers: ER14-1740-000.

Applicants: Southwest Power Pool, Inc.

Description: Notice of Cancellation of Western Farmers Electric Cooperative and ITC Great Plains, LLC Designee Qualification and Novation Service Agreement No. 1814 of Southwest Power Pool, Inc.

Filed Date: 4/18/14.

Accession Number: 20140418-5145.

Comments Due: 5 p.m. ET 5/9/14.

Docket Numbers: ER14-1741-000.

Applicants: PJM Interconnection, L.L.C.

Description: Notice of Cancellation of executed Wholesale Market Participation Agreement of PJM Interconnection, L.L.C.

Filed Date: 4/18/14.

Accession Number: 20140418-5152.

Comments Due: 5 p.m. ET 5/9/14.

Docket Numbers: ER14-1742-000.

Applicants: Arizona Public Service Company.

Description: Arizona Public Service Company submits tariff filing per 35.13(a)(2)(iii): Rate Schedule No. 272—APS and Western Construction Agreement—Saguaro to be effective 6/18/2014.

Filed Date: 4/18/14.

Accession Number: 20140418-5167.

Comments Due: 5 p.m. ET 5/9/14.

Take notice that the Commission received the following electric securities filings:

Docket Numbers: ES14-35-000.

Applicants: Consumers Energy Company.

Description: Application for Authority to Issue Securities of Consumers Energy Company.

Filed Date: 4/18/14.

Accession Number: 20140418-5148.

Comments Due: 5 p.m. ET 5/9/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 18, 2014.
Nathaniel J. Davis, Sr.,
Deputy Secretary.

[FR Doc. 2014-09520 Filed 4-25-14; 8:45 am]

BILLING CODE 6717-01-P